DEPARTMENT OF JUSTICE

Office of Justice Programs

[OJP (OCR) Docket No. 1548]

Hearings of the Review Panel on Prison Rape

AGENCY: Office of Justice Programs, Justice.

ACTION: Notice of hearing.

SUMMARY: The Office of Justice Programs (OJP) announces that the Review Panel on Prison Rape (Panel) will hold hearings in Washington, DC on April 26-27, 2011. The hearing times and location are noted below. The purpose of the hearings is to assist the Bureau of Justice Statistics (BJS) in identifying common characteristics of victims and perpetrators of sexual victimization in U.S. prisons, and the common characteristics of prisons with the highest and lowest incidence of rape, respectively, based on an anonymous survey by the BJS of inmates in a representative sample of U.S. prisons. On August 26, 2010, the BJS issued the report Sexual Victimization in Prisons and Jails Reported by Inmates, 2008-09. The report provides a listing of prisons grouped according to the prevalence of reported sexual victimization, and formed the basis of the Panel's decision about which facilities would be the subject of testimony.

DATES: The hearing schedule is as follows:

1. Tuesday, April 26, 2011, 9 a.m. to 5:30 p.m.: Bureau of Justice Statistics; Dr. Barbara Owen—nationally-known expert on women's prison culture; Elkton Federal Correctional Institution—facility with a low prevalence of sexual victimization; Bridgeport, Texas, Pre-Parole Treatment Facility—facility with a low prevalence of sexual victimization; James V. Allred Unit, Texas—facility with a high prevalence of sexual victimization.

2. Wednesday, April 27, 2011, 9 a.m. 4 p.m.: James V. Allred Unit, Texas—facility with a high prevalence of sexual victimization; Elmira, New York, Correctional Facility—facility with a high prevalence of sexual victimization; Fluvanna, Virginia, Correctional Center for Women—facility with a high prevalence of sexual victimization.

ADDRESSES: The hearings will take place at the Office of Justice Programs Building, Video Conference Room, Third Floor, U.S. Department of Justice, 810 7th Street, NW., Washington, DC 20531.

FOR FURTHER INFORMATION CONTACT: Joseph Swiderski, Designated Federal Official for the Panel at (202) 514-8615. [Note: This is not a toll-free number.]

SUPPLEMENTARY INFORMATION: The Panel, which was established pursuant to the Prison Rape Elimination Act of 2003, Public Law 108-79, 117 Stat. 972 (codified as amended at 42 U.S.C. 15601-15609 (2006)), will hold its next hearings to carry out the review functions specified at 42 U.S.C. 15603(b)(3)(A). Testimony from the hearings will assist the Panel in carrying out its statutory obligations. The witness list is subject to amendment; please refer to the Review Panel on Prison Rape Web site at http://www.ojp.usdoj.gov/reivewpanel.htm for any updates regarding the hearing schedule. Space is limited at the hearing location. Members of the public who wish to attend the hearing in Washington, DC must present government-issued photo identification upon entrance to the Office of Justice Programs. Special needs requests should be made to Joseph Swiderski, Designated Federal Official, OJP, Joseph.Swiderski@usdoj.gov or (202) 514-8615, at least one week before the hearings.

Michael Alston,
Director, Office for Civil Rights, Office of Justice Programs.

[FR Doc. 2011-8781 Filed 4-12-11; 8:45 am]

BILLING CODE 4410-18-P